DEPARTMENT OF THE TREASURY

Internal Revenue Service

26 CFR Parts 1 and 54

[TD 9447]

RIN 1545-BG80

Automatic Contribution Arrangements; Correction

AGENCY: Internal Revenue Service (IRS), Treasury.

ACTION: Correction to final regulations.

SUMMARY: This document contains a correction to final regulations (TD 9447) that were published in the Federal Register on Tuesday, February 24, 2009 (74 FR 8200) relating to automatic contribution arrangements. These regulations affect administrators of, employers maintaining, participants in, and beneficiaries of section 401(k) plans and other eligible plans that include an automatic contribution arrangement.

DATES: This correction is effective on March 19, 2009, and is applicable on February 24, 2009.

FOR FURTHER INFORMATION CONTACT:

R. Lisa Mojiri-Azad, Dana Barry, or William D. Gibbs at (202) 622-3860 (not a toll-free number).

SUPPLEMENTARY INFORMATION:

Background

The final regulations that are the subject of this document are under sections 401, 402, 411, 414, and 4979 of the Internal Revenue Code.

Need for Correction

As published, final regulations (TD 9447) contains an error that may prove to be misleading and is in need of clarification.

Correction of Publication

Accordingly, the publication of the final regulations (TD 9447), which was the subject of FR Doc. E9-3716, is corrected as follows:

On page 8206, column 1, in the preamble, under the paragraph heading “D. Permissible Withdrawal”, fourth paragraph of the column, last line of the paragraph, the language “section 3405(a).” is corrected to read “section 3405(b).”.

LaNita Van Dyke,
Chief, Publications and Regulations Branch, Legal Processing Division, Associate Chief Counsel (Procedure and Administration).

[FR Doc. E9-5952 Filed 3-18-09; 8:45 am]

BILLING CODE 4830-01-P